Title 3—

The President

Executive Order 14361 of November 20, 2025

Modifying the Scope of Tariffs on the Government of Brazil

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby order:

Section 1. Background. In Executive Order 14323 of July 30, 2025 (Addressing Threats to the United States by the Government of Brazil), I found that the scope and gravity of recent policies, practices, and actions of the Government of Brazil constitute an unusual and extraordinary threat to the national security, foreign policy, and economy of the United States that has its source in whole or substantial part outside the United States. I declared a national emergency with respect to that threat and, to deal with that threat, I determined that it was necessary and appropriate to impose an additional ad valorem duty rate of 40 percent on certain articles of Brazil. Additionally, in Annex I to Executive Order 14323, I listed certain articles that, in my judgment, should not be subject to the additional ad valorem rate of duty imposed pursuant to that order.

On October 6, 2025, I participated in a call with Brazilian President Luiz Inácio Lula da Silva, during which we agreed to begin negotiations to address the concerns identified in Executive Order 14323. These negotiations are ongoing. I also have received additional information and recommendations from various officials who, pursuant to my direction, have been monitoring the circumstances involving the emergency declared in Executive Order 14323. For example, in their opinion, certain agricultural imports from Brazil should no longer be subject to the additional ad valorem rate of duty imposed under Executive Order 14323 because, among other relevant considerations, there has been initial progress in negotiations with the Government of Brazil.

After considering the information and recommendations these officials have provided to me and the status of negotiations with the Government of Brazil, among other things, I have determined that it is necessary and appropriate to modify the scope of products subject to the additional ad valorem rate of duty imposed under Executive Order 14323. Specifically, I have determined that certain agricultural products shall not be subject to the additional ad valorem rate of duty imposed under Executive Order 14323. Accordingly, an updated version of Annex I to Executive Order 14323 is attached to this order, which shall be effective with respect to goods entered for consumption, or withdrawn from warehouse for consumption, on or after 12:01 a.m. eastern standard time on November 13, 2025. In my judgment, these modifications are necessary and appropriate to deal with the national emergency declared in Executive Order 14323.

Sec. 2. Tariff Modifications. The Harmonized Tariff Schedule of the United States shall be modified as provided in Annex II to this order. The modifications shall be effective with respect to goods entered for consumption, or withdrawn from warehouse for consumption, on or after 12:01 a.m. eastern standard time on November 13, 2025. To the extent that implementation of this order requires a refund of duties collected, refunds shall be processed pursuant to applicable law and the standard procedures of U.S. Customs and Border Protection for such refunds.

Sec. 3. Implementation. (a) The Secretary of State shall continue to monitor the circumstances involving the emergency declared in Executive Order 14323 and shall regularly consult on such circumstances with any senior official he deems appropriate. The Secretary of State shall inform me of any circumstance that, in his opinion, might indicate the need for further action by the President.

(b) The Secretary of State, in consultation with the Secretary of the Treasury, the Secretary of Commerce, the Secretary of Homeland Security, the United States Trade Representative, the Assistant to the President for National Security Affairs, the Assistant to the President for Economic Policy, the Senior Counselor for Trade and Manufacturing, and the Chair of the United States International Trade Commission, is directed to take all necessary actions to implement and effectuate this order, consistent with applicable law, and is hereby authorized to employ all powers granted to the President by IEEPA as may be necessary to carry out the purposes of this order. The Secretary of State may, consistent with applicable law, redelegate the authority set forth in this order within the Department of State. Each executive department and agency shall take all appropriate measures within its authority to carry out this order.

Sec. 4. Severability. If any provision of this order, or the application of any provision to any individual or circumstance, is held to be invalid, the remainder of this order and the application of its other provisions to any other individuals or circumstances shall not be affected thereby.

Sec. 5. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of State.

THE WHITE HOUSE,

November 20, 2025.

Billing code 4710-05-P

[FR Doc. 2025-21417

Filed 11-25-25; 11:15 am]

Billing code 7020-02-C